FEDERAL COMMUNICATIONS COMMISSION

[DA 25-946; FR ID 320622]

Media Bureau Revises Filing Schedule for Class A, LPTV, and TV Translator Major Change Applications and for New LPTV and TV Translator Station Applications

AGENCY: Federal Communications Commission.

ACTION: Notice.

SUMMARY: In this document, the Federal Communications Commission's Media Bureau (Bureau) announces that due to prospective applicants' inability to access the Commission's Licensing and Management System (LMS) during the recent partial lapse in government funding and therefore prepare and file applications as previously scheduled, it is revising the dates for the Class A, LPTV, and TV translator major modification and LPTV/TV translator new station filing opportunities previously announced in its (public notice), DA 25-792, released September 3, 2025 (September 2025 PN).

DATES: December 11, 2025, 6:00 p.m. ET, December 18, 2025, 6:00 p.m. ET, January 29, 2026, 6:00 p.m. ET, March 12, 2026, 6:00 p.m. ET, March 19, 2026, 12:01 a.m. ET

ADDRESSES: None.

FOR FURTHER INFORMATION CONTACT: Mark Colombo (technical questions), Mark.Colombo@fcc.gov, (202) 418-7611, or Shaun Maher (legal questions), Shaun.Maher@fcc.gov, (202) 418-2324, of the Video Division, Media Bureau.

SUPPLEMENTARY INFORMATION: This is a synopsis of the Media Bureau's document, (public notice), DA 25-946, released on November 17, 2025. The full text of this document is available for download at https://docs.fcc.gov/public/attachments/DA-25-946A1.pdf. To request materials in accessible formats (braille, large print, computer diskettes, or audio recordings), please send an email to FCC504@fcc.gov or call the Consumer & Government Affairs Bureau at (202) 418-0530 (VOICE), (202) 418-0432 (TTY).

Synopsis

On September 3, 2025, the Bureau issued its September 2025 PN announcing a phased approach permitting Class A television, LPTV, and TV translator stations to resume filing major modification applications and allowing for the filing of new LPTV and TV translator station applications. In light of prospective applicants' inability to access the Commission's LMS during the recent partial lapse in government funding—and therefore prepare and file applications as previously scheduled—the Bureau is revising the dates for the filing opportunities previously announced in the September 2025 PN. Except for the revised dates announced below, all processes and procedures previously announced by the Bureau in the September 2025 PN pertaining to these filing opportunities remain the same. The freeze on all major change applications implemented by the Bureau on September 3, 2025 in the September 2025 PN, remains in effect until it is lifted pursuant to the revised schedule.

Revised Freeze/Filing Opportunity Dates:

On December 11, 2025 at 6:00 p.m. ET a temporary application filing freeze will be implemented on all minor change applications (including displacement applications) for Class A, LPTV, and TV translator stations. Minor change applications filed once the freeze is imposed will be dismissed and need to be re-filed after the freeze is lifted.

On December 18, 2025 at 12:01 a.m. ET the major modification filing freeze will be lifted to permit Class A, LPTV, and TV translator stations to file major change applications, on a first-come, first-served basis. Facility relocations are limited to no more than 121.0 kilometers (km). Major change applications submitted during this filing opportunity must meet the 121.0 km distance limit and otherwise comply with the Commission's part 73 and 74 rules. All other applications will be dismissed. The filing freeze on all minor change applications (including displacement applications) for Class A, LPTV, and TV translator stations will also be lifted.

On January 29, 2026 at 6:00 p.m. ET a temporary application filing freeze will be implemented for all major change applications for Class A, LPTV, and TV translator stations. Major change applications filed once the freeze is imposed will be dismissed and need to be re-filed after the freeze is lifted.

On March 12, 2026 at 6:00 p.m. ET a temporary application filing freeze will be implemented for all minor change applications (including displacement applications) for Class A, LPTV, and TV translator stations. Minor change applications filed once the freeze is imposed will be dismissed and need to be re-filed after the freeze is lifted.

On March 19, 2026 at 12:01 a.m. ET the major modification filing freeze will be lifted, without limit or restriction, to permit the filing of Class A, LPTV and TV translator major change applications and acceptance of applications for new LPTV and TV translators stations, on a first-come, first-served basis . The freeze on all minor change applications (including displacement applications) for Class A, LPTV, and TV translator stations will also be lifted.

This action is taken by the Acting Chief, Media Bureau, pursuant to authority delegated by §§ 0.61 and 0.283 of the Commission's rules. 47 CFR 0.61 and 0.283.

Federal Communications Commission.
Thomas Horan,
Chief of Staff, Media Bureau.

[FR Doc. 2025-22017 Filed 12-4-25; 8:45 am]

BILLING CODE 6712-01-P